NATIONAL SCIENCE FOUNDATION

Advisory Committee for Biological Sciences; Committee of Visitors; Notice of Meeting

In accordance with the Federal Advisory Committee Act (Pub. L. 92-463, as amended), the National Science Foundation announces the following meeting:

Name: Advisory Committee for Biological Sciences (1110): Committee of Visitors (COV) Review for Biomolecular Structure & Function and Biomolecular Processes in the Division of Molecular & Cellular Biosciences.

Date and Time: July, 10-12, 2000; 8:30 a.m. to 5 p.m. each day.

Place: National Science Foundation, Room 310, 4201 Wilson Boulevard, Arlington, Virginia 22230.

Contact Person: Maryanna Henkart, Division Director for Molecular and Cellular Biosciences, National Science Foundation, 4201 Wilson Boulevard, Arlington, Virginia, (703) 306-1440.

Purpose of Meeting: To carry out Committee of Visitors (COV) review, including program evaluation, GPRA assessments, and access to privileged materials.

Type of Meeting: Part open (see agenda below):

Agenda

Closed: July 10, (10 a.m.-5 p.m.); July 11 (8:30 a.m.-1 p.m., and 2 p.m.-5 p.m.); and July 12 (8:30 a.m.-1 p.m. and 2 p.m.-5 p.m.)—To review the merit review processes covering funding decisions made during the immediately preceding three fiscal years of programs in the Division of Molecular and Cellular Biosciences.

Open: July 10 (8:30 a.m.-10 a.m.); July 11 (1 p.m.-2 p.m.), and July 12 (1 p.m.-2 p.m.)—To assess the results of NSF program investments in the Molecular and Cellular Biosciences Division. This shall involve a discussion and review of results focused on NSF and grantee outputs and related outcomes achieved or realized during the preceding three fiscal years. These results may be based on NSF grants or other investments made in earlier years.

Reason for Closing: During the closed session, the Committee will be reviewing proposal actions that will include information of a proprietary nature, including technical information; financial data, such as salaries; and personal information concerning individuals associated with the proposals. These matters are exempt under 5 U.S.C. 552b(c), (4) and (6) of the Government in the Sunshine Act.

Dated: June 21, 2000.
Karen L. York,
Committee Management Officer.

[FR Doc. 00-16091 Filed 6-23-00; 8:45 am]

BILLING CODE 7555-01-M